NATIONAL AERONAUTICS AND SPACE ADMINISTRATION

[Notice (10-072)]

NASA Advisory Council; Education and Public Outreach Committee; Meeting

AGENCY: National Aeronautics and Space Administration.

ACTION: Notice of meeting.

SUMMARY: In accordance with the Federal Advisory Committee Act, Public Law 92-463, as amended, the National Aeronautics and Space Administration announces a meeting of the Education and Public Outreach Committee of the NASA Advisory Council.

DATES: Monday, July 19, 2010, 10 a.m. to 4 p.m. (Pacific Time).

ADDRESS: Jet Propulsion Laboratory, Von Karman Auditorium, 4800 Oak Grove Drive, LaCanada-Flintridge, CA 91011.

FOR FURTHER INFORMATION CONTACT: This meeting will also take place telephonically and via WebEx. Any interested person should contact Ms. Erika G. Vick, Executive Secretary for the Education and Public Outreach Committee, National Aeronautics and Space Administration, Washington, DC, at (202) 358-2209, prior to the day of the meeting to get further information about participating via teleconference and/or WebEx.

SUPPLEMENTARY INFORMATION: The agenda for the meeting includes the following topics:

• Summer of Innovation Program

• Social Media Successes, Opportunities, and Challenges

• Regulations that Constrain Public Engagement

• Education and Public Outreach Committee Work Plan

The meeting will be open to the public up to the seating capacity of the room. It is imperative that the meeting be held on this date to accommodate the scheduling priorities of the key participants.

Kathy Dakon,
Acting Director, Advisory Committee Management Division, National Aeronautics and Space Administration.

[FR Doc. 2010-15952 Filed 6-30-10; 8:45 am]

BILLING CODE P